DEPARTMENT OF ENERGY

Federal Energy Regulatory Commission

[Project No. 11945-001—Oregon]

Dorena Lake Dam Hydroelectric Project; Notice of Availability of Final Environmental Assessment

January 19, 2007.

In accordance with the National Environmental Policy Act of 1969 and the Federal Energy Regulatory Commission's (Commission's) regulations, 18 CFR Part 380 (Order No. 486, 52 FR 47897), the Office of Energy Projects has reviewed Symbiotics, LLC's application for license for the proposed Dorena Lake Dam Project (or project), located on the Row River near the city of Cottage Grove, Lane County, Oregon, and has prepared a final environmental assessment (EA) for the project. The proposed project would occupy less than 0.13 acre (5,655 square feet) of Federal land administered by the U.S. Army Corps of Engineers and the U.S. Bureau of Land Management.

The final EA contains the staff's analysis of the potential future environmental effects of the project, and staff has concluded that licensing the project, with appropriate environmental protective measures, would not constitute a major Federal action that would significantly affect the quality of the human environment.

A copy of the final EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659.

You may also register online at http://www.ferc.gov/docs-filing/esubscription.asp to be notified via e-mail of new filings and issuances related to this or other pending projects. For assistance, contact FERC Online Support.

For further information, contact Dianne Rodman by telephone at 202-502-6077 or by e-mail at dianne.rodman@ferc.gov.

Magalie R. Salas,
Secretary.

[FR Doc. E7-1172 Filed 1-25-07; 8:45 am]

BILLING CODE 6717-01-P